DEPARTMENT OF TRANSPORTATION

Federal Aviation Administration

14 CFR Part 39

[Docket No. 2001-NM-187-AD]

RIN 2120-AA64

Airworthiness Directives; Airbus Model A330 and A340 Series Airplanes

AGENCY: Federal Aviation Administration, DOT.

ACTION: Notice of proposed rulemaking (NPRM).

SUMMARY: This document proposes the adoption of a new airworthiness directive (AD) that is applicable to all Airbus Model A330 and A340 series airplanes. This proposal would require, among other actions, a detailed inspection of the rudder travel limitation unit for proper adjustment, measurement of the desynchronization of rudder servo-controls, installation of rigging placards for rudder servo-controls, and follow-on and corrective actions, if necessary. This action is necessary to prevent desynchronization of the rudder servo-controls, which could result in high load factors on the rudder servo-controls, and consequent reduced structural integrity of the attachment fittings for the rudder servo-controls. This action is intended to address the identified unsafe condition.

DATES: Comments must be received by June 30, 2003.

ADDRESSES: Submit comments in triplicate to the Federal Aviation Administration (FAA), Transport Airplane Directorate, ANM-114, Attention: Rules Docket No. 2001-NM-187-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-187-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-187-AD.” The postcard will be date stamped and returned to the commenter.

Availability of NPRMs

Any person may obtain a copy of this NPRM by submitting a request to the FAA, Transport Airplane Directorate, ANM-114, Attention: Rules Docket No. 2001-NM-187-AD, 1601 Lind Avenue, SW., Renton, Washington 98055-4056.

Discussion

The Direction Générale de l'Aviation Civile (DGAC), which is the airworthiness authority for France, notified the FAA that an unsafe condition may exist on all Airbus Model A330 and A340 series airplanes. The DGAC advises that it has received several reports of abnormal stiff application of the rudder pedal in flight and during ground tests. Investigation revealed cracks on the attachment fittings for the blue rudder servo-controls and on the spherical bearing of the tail lock for the blue rudder servo-controls. Also, the actuating spring rod of the blue rudder servo-controls was found to be shorter than the actuating spring rods of the yellow and green rudder servo-controls, which resulted in desynchronization of the rudder servo-controls. The high load factors induced by the desynchronization caused the cracks on the attachment fittings for the servo-controls and spherical bearing. The desynchronization was caused by deviation from the procedures for adjusting actuating spring rods of the rudder servo-controls. This condition, if not corrected, could result in high load factors on the rudder servo-controls, and consequent reduced structural integrity of the attachment fittings for the rudder servo-controls.

Explanation of Relevant Service Information

Airbus has issued Service Bulletin A330-27-3084 (for Model A330 series airplanes); and Service Bulletin A340-27-4088 (for Model A340 series airplanes); both dated March 28, 2001. These service bulletins describe procedures for performing a detailed inspection of the rudder travel limitation unit (RTLU) for proper adjustment, and measuring desynchronization of the rudder servo-controls. The inspection of the RTLU includes installing rigging pins on the bellcrank and right and left input levers and, if necessary, adjusting the length of the applicable adjustable rod. Measurement of the rudder servo-controls for desynchronization includes disconnecting the control rod from the bellcrank; installing a rigging pin on the bellcrank assembly of the lower servo-controls; pressurizing and depressurizing the blue, yellow, and green hydraulic systems at the appropriate times; recording the results; if desynchronization is found, determining if the value is within the acceptable limits specified in the service bulletins; replacing or adjusting the actuating spring rods and affected rudder servo-controls; and returning replaced rudder servo-controls with the highest load factors to the manufacturer; as applicable.

For airplanes on which any rudder servo-control has been replaced per Service Bulletin A330-27-3084 or Service Bulletin A340-27-4088, Airbus has also issued Service Bulletin A330-55-3028 (for Model A330 series airplanes); and Service Bulletin A340-55-4026 (for Model A340 series airplanes); including Appendix 01; dated May 28, 2001. These service bulletins describe procedures for a detailed or high frequency eddy current inspection of the attachment fittings of desynchronized rudder servo-controls for cracks. The service bulletins describe procedures for follow-on actions (including additional detailed inspections in the area of the fasteners and attachment fittings; additional high frequency eddy current inspections; cold expansion of specific fastener holes; drilling/reaming and cleaning of specific fastener holes; rotating probe inspections; and wet installation of pins, collars, and oversize fasteners) depending on airplane configuration; as applicable; and repetitive inspections. The service bulletins also state that if any crack is found, operators should contact Airbus for repair instructions.

For certain Model A330 series airplanes, Airbus Service Bulletin A330-27-3084 recommends concurrent accomplishment of Airbus Service Bulletin A330-27-3082, dated March 28, 2001. Service Bulletin A330-27-3082 describes procedures for installing rigging placards for the rudder servo-controls (including bonding placards to the appropriate areas and coating them with lacquer).

For certain Model A340 series airplanes, Airbus Service Bulletin A340-27-4088 recommends concurrent accomplishment of Airbus Service Bulletin A340-27-4086, dated March 28, 2001. Service Bulletin A340-27-4086 describes procedures for installing rigging placards for the rudder servo-controls (including bonding placards to the appropriate areas and coating them with lacquer).

Accomplishment of the actions specified in these service bulletins is intended to adequately address the identified unsafe condition. The DGAC classified these service bulletins as mandatory and issued French airworthiness directives 2001-156(B) and 2001-157(B), both dated May 2, 2001, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletins described previously, except as discussed below.

Differences Between Foreign Airworthiness Directives, Service Bulletins, and Proposed AD

Operators should note that although French airworthiness directives 2001-156(B) and 2001-157(B); and Airbus Service Bulletins A330-55-3028 (for Model A330 series airplanes) and A340-55-4026 (for Model A340 series airplanes); include instructions for reporting inspection results and returning desynchronized rudder servo-controls with the highest load factors to Airbus, this proposed AD would not require those actions.

Operators should also note that, although Airbus Service Bulletins A330-55-3028 and A340-55-4026 specify that the manufacturer may be contacted for certain repair instructions, this proposal would require the repair be accomplished in accordance with a method approved by either the FAA, or the DGAC (or its delegated agent). In light of the type of repair that would be required to address the identified unsafe condition, and in consonance with existing bilateral airworthiness agreements, the FAA has determined that, for this proposed AD, a repair approved by either the FAA or the DGAC (or its delegated agent) would be acceptable for compliance with this proposed AD.

Cost Impact

The FAA estimates that 9 Model A330 series airplanes of U.S. registry would be affected by this proposed AD, that it would take 6 work hours per airplane to accomplish the proposed inspection and measurement, and 1 work hour per airplane to accomplish the proposed installation of the rigging placards, and that the average labor rate is $60 per work hour. Required rigging placards would be provided to the operators at no cost. Based on these figures, the cost impact of the proposed AD on U.S. operators is estimated to be $3,780, or $420 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it would require 6 work hours per airplane to accomplish the proposed inspection and measurement, and 1 work hour per airplane to accomplish the proposed installation of the rigging placards, at an average labor rate of $60 per work hour. Required placards would be provided to the operators at no cost. Based on these figures, the cost impact of the proposed AD for Model A340 operators would be $420 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-187-AD.

Applicability: Model A330 and A340 series airplanes, certificated in any category; except those airplanes modified in production in accordance with Airbus Modification 48110.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent desynchronization of the rudder servo-controls, which could result in high load factors on the rudder servo-controls, and consequent reduced structural integrity of the attachment fittings for the rudder servo-controls, accomplish the following:

Inspection of Rudder Travel Limitation Unit

(a) Within 16 months after the effective date of this AD: Perform a one-time detailed inspection of the rudder travel limitation unit (RTLU) (including installing rigging pins on the bellcrank and the right and left input levers) for proper adjustment, per the Accomplishment Instructions specified in Airbus Service Bulletin A330-27-3084 (for Model A330 series airplanes); or Airbus Service Bulletin A340-27-4088 (for Model A340 series airplanes); both dated March 28, 2001; as applicable. Although the service bulletins reference a reporting requirement, such reporting is not required by this AD.

(1) If it is possible to install rigging pins on both input levers, the RTLU is properly adjusted and no further action is required by this paragraph.

(2) If it is not possible to install the rigging pins on either input lever, before further flight, adjust the length of the appropriate adjustable rod, per the Accomplishment Instructions specified in the applicable service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Measurement of Rudder Servo-Controls Desynchronization and Corrective Action if Necessary

(b) Within 16 months after the effective date of this AD: Measure the desynchronization value (value D) of the rudder servo-controls and, depending on the measurement, before further flight, perform the applicable corrective actions (e.g., replacement and/or adjustment of the spring rod and/or the rudder servo-controls); per the Accomplishment Instructions specified in Airbus Service Bulletin A330-27-3084 (for Model A330 series airplanes); or Airbus Service Bulletin A340-27-4088 (for Model A340 series airplanes); both dated March 28, 2001; as applicable. Operators should note that although these service bulletins request that desynchronized rudder servo-controls with the highest load factors be returned to the manufacturer, that action is not required by this AD.

(c) If any rudder servo-control was replaced per the requirements of paragraph (b) of this AD, do paragraphs (c)(1) and (c)(2) of this AD.

(1) Before further flight, perform either a detailed inspection or a high frequency eddy current (HFEC) inspection for cracks in the attachment fittings of the desynchronized rudder servo-controls, and perform the applicable follow-on and corrective actions (e.g., cold expansion of affected fastener holes, drilling/reaming of affected holes, and rotating probe inspections), per the Accomplishment Instructions specified in Airbus Service Bulletin A330-55-3028 (for Model A330 series airplanes); or Airbus Service Bulletin A340-55-4026 (for Model A340 series airplanes); excluding Appendix 01; dated May 28, 2001; as applicable; except where the service bulletin specifies to contact the manufacturer for repair instructions, repair per a method approved by the Manager, International Branch, ANM-116, FAA.

(2) Repeat the inspection required by paragraph (c)(1) of this AD at the following intervals:

(i) If the immediately preceding inspection was conducted using detailed inspection techniques, conduct the next inspection within 300 flight cycles; or

(ii) If the immediately preceding inspection was conducted using HFEC techniques, conduct the next inspection within 6,000 flight cycles.

Concurrent Requirements

(d) Concurrently with the requirements of paragraphs (a) and (b) of this AD, install appropriate rigging placards for the rudder servo-controls, per Airbus Service Bulletin A330-27-3082 (for Model A330 series airplanes); or Airbus Service Bulletin A340-27-4086 (for Model A340 series airplanes); both dated March 28, 2001; as applicable.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Note 4: The subject of this AD is addressed in French airworthiness directives 2001-156(B) and 2001-157(B), both dated May 2, 2001.

Issued in Renton, Washington, on May 21, 2003.
Vi L. Lipski,
Manager, Transport Airplane Directorate, Aircraft Certification Service.

[FR Doc. 03-13389 Filed 5-28-03; 8:45 am]

BILLING CODE 4910-13-P